DEPARTMENT OF LABOR

Employment and Training Administration

[TA-W-70,993; TA-W-70,993A]

Diebold, Incorporated, Hebron, OH; Diebold, Incorporated, North Canton, OH; Amended Certification Regarding Eligibility To Apply for Worker Adjustment Assistance

In accordance with Section 223 of the Trade Act of 1974, as amended (“Act”), 19 U.S.C. 2273, the Department of Labor issued a Certification of Eligibility to Apply for Worker Adjustment Assistance on April 1, 2010, applicable to workers of Diebold, Incorporated, North Canton, Ohio. The notice was published in the Federal Register on May 5, 2010 (75 FR 24750). The notice was corrected on April 23, 2010 to show the correct location of the subject firm should read Hebron, Ohio not North Canton, Ohio which is the headquarters location of the subject firm.

At the request of the State agency, the Department reviewed the certification for workers of the subject firm. The workers were engaged in the production of banking security equipment.

New findings show that worker separations occurred during the relevant time period at the North Canton, Ohio location of Diebold, Incorporated. The North Canton, Ohio location produced banking security equipment and served as the headquarter offices for Diebold, Incorporated.

Accordingly, the Department is amending the certification to include workers of the North Canton, Ohio location of Diebold, Incorporated.

The intent of the Department's certification is to include all workers of the subject firm who were adversely affected by a shift in production of banking security equipment to Hungary and China.

The amended notice applicable to TA-W-70,993 is hereby issued as follows:

All workers of Diebold, Incorporated, Hebron, Ohio (TA-W-70,993 and Diebold, Incorporated, North Canton, Ohio (TA-W-70,993A), who became totally or partially separated from employment on or after June 4, 2008, through April 1, 2012, and all workers in the group threatened with total or partial separation from employment on date of certification through two years from the date of certification, are eligible to apply for adjustment assistance under Chapter 2 of Title II of the Trade Act of 1974, as amended.

Signed in Washington, DC, this 6th day of August 2010.
Michael W. Jaffe,
Certifying Officer, Division of Trade Adjustment Assistance.

[FR Doc. 2010-20786 Filed 8-20-10; 8:45 am]

BILLING CODE 4510-FN-P